DEPARTMENT OF THE INTERIOR

Office of Surface Mining Reclamation and Enforcement

30 CFR Part 948

[WV-116-FOR; OSM-2009-0008]

West Virginia Regulatory Program

AGENCY: Office of Surface Mining Reclamation and Enforcement, Interior.

ACTION: Proposed rule; reopening of comment period.

SUMMARY: We are reopening the public comment period on the proposed West Virginia Regulatory Program rule published on October 21, 2009. The comment period is being reopened in order to afford the public the opportunity to comment on the proposed amendment to change a type of cropland postmining land use from “bio oil” to “bio fuel.” In the initial proposed rule announcing receipt of the amendment, the Office of Surface Mining Reclamation and Enforcement (OSM) characterized the change as non-substantive, and did not note where the changes occurred throughout the regulations. Concerns were raised about the use of “bio-fuel” as a postmining land use (unrelated to this amendment) and OSM asked the West Virginia Department of Environmental Protection (WVDEP) to clarify why the State was changing the term “bio-oil” to “bio-fuel.”

DATES: Comments on the proposed rule must be received on or before 4 p.m., local time on February 22, 2011.

ADDRESSES: You may submit comments by any of the following two methods:

• Federal eRulemaking Portal: http://www.regulations.gov. The proposed rule has been assigned Docket ID: OSM-2009-0008. If you would like to submit comments through the Federal eRulemaking Portal, go to http://www.regulations.gov and follow the instructions.

• Mail/Hand Delivery: Mr. Roger W. Calhoun, Director, Charleston Field Office, Office of Surface Mining Reclamation and Enforcement, 1027 Virginia Street, East, Charleston, West Virginia 25301. Please include the rule identifier (WV-116-FOR) with your written comments. Instructions: All submissions received must include the agency Docket ID (OSM-2009-0008) for this rulemaking.

For detailed instructions on submitting comments and additional information on the rulemaking process, see the SUPPLEMENTARY INFORMATION section of this document. You may also request to speak at a public hearing by any of the methods listed above or by contacting the individual listed under FOR FURTHER INFORMATION CONTACT.

Docket: The proposed rule and any comments that are submitted may be viewed over the Internet at http://www.regulations.gov. Look for Docket ID OSM-2009-0008. In addition, you may review copies of the West Virginia program, this amendment, a listing of any scheduled public hearings, and all written comments received in response to this document at the addresses listed below during normal business hours, Monday through Friday, excluding holidays. You may also receive one free copy of this amendment by contacting OSM's Charleston Field Office listed below.

Mr. Roger W. Calhoun, Director, Charleston Field Office, Office of Surface Mining Reclamation and Enforcement, 1027 Virginia Street, East, Charleston, West Virginia 25301, Telephone: (304) 347-7158. E-mail: chfo@osmre.gov.

West Virginia Department of Environmental Protection, 601 57th Street, SE., Charleston, WV 25304, Telephone: (304) 926-0490.

In addition, you may review a copy of the amendment during regular business hours at the following locations:

Office of Surface Mining Reclamation and Enforcement, Morgantown Area Office, 604 Cheat Road, Suite 150, Morgantown, West Virginia 26508, Telephone: (304) 291-4004. (By appointment only).

Office of Surface Mining Reclamation and Enforcement, Beckley Area Office, 313 Harper Park Drive, Suite 3, Beckley, West Virginia 25801, Telephone: (304) 255-5265.

FOR FURTHER INFORMATION CONTACT: Mr. Roger W. Calhoun, Director, Charleston Field Office, Telephone: (304) 347-7158. E-mail: chfo@osmre.gov.

SUPPLEMENTARY INFORMATION: On October 21, 2009 (74 FR 53972), we published a proposed rule that would revise the West Virginia surface mining regulatory program. The revisions would address various issues including, but not limited to, continued oversight by the Secretary of “approved” persons who prepare, sign, or certify mining permit applications and related materials; regarding incidental boundary revisions to existing permits, clarifying that certain types of collateral activities are part of the primary mining operations and therefore subject to the same acreage limitations, while providing more relevant and exacting criteria for the Secretary to consider in evaluating an application for revision; deleting the bonding matrix form; changing term “Bio-oil” to “Bio fuel”; and clarifying standards contained in subsection 9.3.f that pertain to areas developed for hayland or pasture use.

In our announcement of the State's submission of the amendment, we stated that the “changes regarding the term `Bio-oil' to `Bio-fuel' in the program amendments are non-substantive in nature.” Subsequently, concerns within OSM arose regarding the definitions WVDEP was using for the terms and we asked them to clarify both definitions. In an e-mail to OSM dated July 26, 2010, WVDEP stated that “Biofuels cover are [sic] a wide range of fuels which are derived from biomass. The term covers solid biomass, liquid fuels and various biogases while bio-oil was limited to biodiesel.” Given these definitions, it appears that we inadvertently mischaracterized the change from “bio-oil” to “bio-fuel” as non-substantive and the issue was not properly explained in the amendment.

Public Comment Procedures

Under the provisions of 30 CFR 732.17(h), we are seeking your comments on whether the submission satisfies the applicable program approval criteria of 30 CFR 732.15. If we approve the amendment, it will become part of the West Virginia program.

Public Availability of Comments

Before including your address, phone number, e-mail address, or other personal identifying information in your comment, you should be aware that your entire comment—including your personal identifying information—may be made publicly available at any time. While you may ask us in your comment to withhold your personal identifying information from public review, we cannot guarantee that we will be able to do so. We cannot ensure that comments received after the close of the comment period (see DATES) or sent to an address other than those listed above (see ADDRESSES) will be included in the docket for this rulemaking and considered.

Electronic or Written Comments

If you submit written comments, they should be specific, confined to issues pertinent to the proposed regulations, and explain the reason for any recommended change(s). We would appreciate all comments relating to this specific issue, but those most useful and likely to influence decisions on the final rule will be those that either involve personal experience or include citations to and analysis of the Surface Mining Control and Reclamation Act of 1977, its legislative history, its implementing regulations, case law, other State or Federal laws and regulations, data, technical literature, or other relevant publications. Specifically, we are asking for comments solely on the State's proposed program amendments at subsection 7.8 to change the term “bio-oil” to “bio-fuel.”

List of Subjects in 30 CFR Part 948

Intergovernmental relations, Surface mining, Underground mining.

Dated: October 20, 2010.
Michael K. Robinson,
Acting Regional Director, Appalachian Region.

[FR Doc. 2011-1512 Filed 2-4-11; 8:45 am]

BILLING CODE 4310-05-P